DEPARTMENT OF HOMELAND SECURITY

Coast Guard

33 CFR Part 165

[Docket No. USCG-2018-0596]

Safety Zones; Recurring Events in Captain of the Port Duluth Zone—Cornucopia Annual Fireworks Display

AGENCY: Coast Guard, DHS.

ACTION: Notice of enforcement of regulation.

SUMMARY: The Coast Guard will enforce the safety zone for the Cornucopia Annual Fireworks Display in Cornucopia, WI from 9:30 p.m. through 11:30 p.m. on June 30, 2018. This action is necessary to protect participants and spectators during the Cornucopia Fireworks Display. During the enforcement period, entry into, transiting, or anchoring within the safety zone is prohibited unless authorized by the Captain of the Port Duluth or their designated on-scene representative.

DATES: The regulations in 33 CFR 165.943(b) will be enforced from 9:30 p.m. through 11:30 p.m. on June 30, 2018, for the Cornucopia Annual Fireworks Display safety zone, § 165.943(a)(4).

FOR FURTHER INFORMATION CONTACT: If you have questions on this document, call or email LT John Mack, Chief of Waterways Management, Coast Guard; telephone (218)725-3818, email DuluthWWM@uscg.mil.

SUPPLEMENTARY INFORMATION: The Coast Guard will enforce the safety zone for the annual Cornucopia Annual Fireworks Display in 33 CFR 165.943(a)(4) from 9:30 p.m. through 11:30 p.m. on June 30, 2018 on all waters of Lake Superior bounded by the arc of a circle with a 300 foot radius from the fireworks launch site with it center in approximate position 46°51′35″ N, 091°06′10″ W.

Entry into, transiting, or anchoring within the safety zone is prohibited unless authorized by the Captain of the Port Duluth or their designated on-scene representative. The Captain of the Port Duluth or their on-scene representative may be contacted via VHF Channel 16.

This document is issued under authority of 33 CFR 165.943 and 5 U.S.C. 552(a). In addition to this publication in the Federal Register, the Coast Guard will provide the maritime community with advance notification of the enforcement of this safety zone via Broadcast Notice to Mariners.

Dated: June 14, 2018.
E.E. Williams,
Commander, U.S. Coast Guard, Captain of the Port Duluth.

[FR Doc. 2018-13236 Filed 6-19-18; 8:45 am]

BILLING CODE 9110-04-P